DEPARTMENT OF TRANSPORTATION

Federal Aviation Administration

14 CFR Part 39

[Docket No. FAA-2011-0971; Directorate Identifier 2011-CE-030-AD; Amendment 39-16862; AD 2011-23-11]

RIN 2120-AA64

Airworthiness Directives; Pacific Aerospace Limited Airplanes

AGENCY: Federal Aviation Administration (FAA), Department of Transportation (DOT).

ACTION: Final rule.

SUMMARY: We are adopting a new airworthiness directive (AD) for Pacific Aerospace Limited Model FU24 Airplanes. This AD results from mandatory continuing airworthiness information (MCAI) issued by an aviation authority of another country to identify and correct an unsafe condition on an aviation product. The MCAI describes the unsafe condition as:

Investigation of a recent Cresco 08-600 accident identified a risk of the hopper lid interfering with the opening of the canopy in the event of an emergency landing. The pilot was prevented from opening the canopy by the hopper lid in the fully forward open position. This AD is issued due to the fact that the hopper lid installation on the accident aircraft was an unapproved modification and the Fletcher FU24 hopper installation is a similar design to the Cresco 08-600.

We are issuing this AD to require actions to correct the unsafe condition on these products.

DATES: This AD is effective December 15, 2011.

ADDRESSES: You may examine the AD docket on the Internet at http://www.regulations.gov or in person at Document Management Facility, U.S. Department of Transportation, Docket Operations, M-30, West Building Ground Floor, Room W12-140, 1200 New Jersey Avenue SE., Washington, DC 20590.

FOR FURTHER INFORMATION CONTACT: Karl Schletzbaum, Aerospace Engineer, FAA, Small Airplane Directorate, 901 Locust, Room 301, Kansas City, Missouri 64106; telephone: (816) 329-4146; fax: (816) 329-4090; email: karl.schletzbaum@faa.gov.

SUPPLEMENTARY INFORMATION:

Discussion

We issued a notice of proposed rulemaking (NPRM) to amend 14 CFR part 39 to include an AD that would apply to the specified products. That NPRM was published in the Federal Register on September 8, 2011 (76 FR 55614). That NPRM proposed to correct an unsafe condition for the specified products. The MCAI states:

Investigation of a recent Cresco 08-600 accident identified a risk of the hopper lid interfering with the opening of the canopy in the event of an emergency landing. The pilot was prevented from opening the canopy by the hopper lid in the fully forward open position. This AD is issued due to the fact that the hopper lid installation on the accident aircraft was an unapproved modification and the Fletcher FU24 hopper installation is a similar design to the Cresco 08-600.

The MCAI requires reviewing the aircraft records, doing a conformity inspection for an approved design hopper lid installation, and removing the hopper lid installation, if not an approved design. You may obtain further information by examining the MCAI in the AD docket.

Comments

We gave the public the opportunity to participate in developing this AD. We received no comments on the NPRM (76 FR 55614, September 8, 2011) or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

Costs of Compliance

We estimate that this AD will affect 1 product of U.S. registry. We also estimate that it would take about 1 work-hours per product to comply with the basic requirements of this AD. The average labor rate is $85 per work-hour. Required parts would cost about $0 per product.

Based on these figures, we estimate the cost of the AD on U.S. operators to be $85, or $85 per product.

In addition, we estimate that any necessary follow-on actions would take about 6 work-hours and require parts costing $0, for a cost of $510 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Management Facility between 9 a.m. and 5 p.m., Monday through Friday, except Federal holidays. The AD docket contains the NPRM (76 FR 55614, September 8, 2011), the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-23-11 Pacific Aerospace Limited: Amendment 39-16862; Docket No. FAA-2011-0971; Directorate Identifier 2011-CE-030-AD.

(a) Effective Date

This airworthiness directive (AD) becomes effective December 15, 2011.

(b) Affected ADs

None.

(c) Applicability

This AD applies to Pacific Aerospace Limited Models FU24-954 and FU24A-954 airplanes, all serial numbers, certificated in any category.

(d) Subject

Air Transport Association of America (ATA) Code 52: Doors.

(e) Reason

The mandatory continuing airworthiness information (MCAI) states:

Investigation of a recent Cresco 08-600 accident identified a risk of the hopper lid interfering with the opening of the canopy in the event of an emergency landing. The pilot was prevented from opening the canopy by the hopper lid in the fully forward open position. This AD is issued due to the fact that the hopper lid installation on the accident aircraft was an unapproved modification and the Fletcher FU24 hopper installation is a similar design to the Cresco 08-600.

The MCAI requires reviewing the aircraft records, doing a conformity inspection for an approved design hopper lid installation, and removing the hopper lid installation, if not an approved design.

(f) Actions and Compliance

Unless already done, do the following actions within 150 hours time-in-service (TIS) after December 15, 2011 (the effective date of this AD) or within 12 calendar months after December 15, 2011 (the effective date of this AD), whichever occurs first:

(1) Review the aircraft records and determine whether a hopper lid modification has been recorded. If a hopper lid modification has been recorded, determine whether the aircraft was certified for release to service after completion of the modification and whether the applicable approved technical data (supplemental type certificate (STC) or field approval) is referenced. Visually inspect for an unapproved hopper lid modification.

(2) If the hopper lid modification is an approved design, do a conformity inspection and determine whether the hopper lid modification conforms to the applicable approved technical data (supplemental type certificate (STC) or field approval).

(3) If the hopper lid modification is not an approved design (STC or field approval), before further flight, remove the hopper lid installation.

Note 1: The Frontier-Aerospace Incorporated Models Fletcher FU-24 and Fletcher FU-24A airplanes do not have this unsafe condition and are not affected by this AD.

Note 2: The basic hopper installation for the Pacific Aerospace Limited Model FU24-954 airplane does not include a hopper lid due to the canopy sliding partly over the hopper inlet. A separate approval must be obtained to install a hopper lid.

FAA AD Differences

Note 3: This AD differs from the MCAI and/or service information as follows: No differences.

(g) Other FAA AD Provisions

The following provisions also apply to this AD:

(1) Alternative Methods of Compliance (AMOCs): The Manager, Standards Office, FAA, has the authority to approve AMOCs for this AD, if requested using the procedures found in 14 CFR 39.19. Send information to ATTN: Karl Schletzbaum, Aerospace Engineer, FAA, Small Airplane Directorate, 901 Locust, Room 301, Kansas City, Missouri 64106; telephone: (816) 329-4146; fax: (816) 329-4090; email: karl.schletzbaum@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Related Information

MCAI Civil Aviation Authority (CAA) AD DCA/FU24/180, dated July 28, 2011, for related information. You may review copies of the referenced service information at the FAA, Small Airplane Directorate, 901 Locust, Kansas City, Missouri 64106. For information on the availability of this material at the FAA, call (816) 329-4148.

(i) Material Incorporated by Reference

None.

Issued in Kansas City, Missouri, on November 2, 2011.
John Colomy,
Acting Manager, Small Airplane Directorate, Aircraft Certification Service.

[FR Doc. 2011-29045 Filed 11-9-11; 8:45 am]

BILLING CODE 4910-13-P